OFFICE OF THE UNITED STATES TRADE REPRESENTATIVE

Notice of Meeting of the Industry Sector Advisory Committee on Aerospace Equipment (ISAC-1)

AGENCY: Office of the United States Trade Representative.

ACTION: Notice of a partially opened meeting.

SUMMARY: The Industry Sector Advisory Committee on Aerospace Equipment (ISAC-1) will hold a meeting on January 21, 2004, from 8:45 a.m. to 2:30 p.m. The meeting will be closed to the public from 8:45 a.m. to 2 p.m. and opened to the public from 2 p.m. to 2:30 p.m.

DATES: The meeting is scheduled for January 21, 2004, unless otherwise notified.

ADDRESSES: The meeting will be held at the U.S. Department of Commerce, Room 6057, 14th Street (between Pennsylvania and Constitution Avenue), NW., Washington, DC 20230.

FOR FURTHER INFORMATION CONTACT: Vicki Harrison, DFO for ISAC-1 at (202) 482-4792, Department of Commerce, 14th Street and Constitution Avenue, NW., Washington, DC 20230.

SUPPLEMENTARY INFORMATION: During the opened portion of the meeting the following agenda items will be considered.

• Update on Commerce Department Study on the Aerospace Industry.

• Briefing on Office of Space Commercialization status.

Christopher A. Padilla,
Assistant U.S. Trade Representative for Intergovernmental Affairs and Public Liaison.

[FR Doc. 04-550 Filed 1-9-04; 8:45 am]

BILLING CODE 3190-W3-M